DEPARTMENT OF COMMERCE

National Oceanic and Atmospheric Administration

[RTID 0648-XX017]

Magnuson-Stevens Act Provisions; General Provisions for Domestic Fisheries; Application for Exempted Fishing Permits; Correction

AGENCY: National Marine Fisheries Service (NMFS), National Oceanic and Atmospheric Administration (NOAA), Commerce.

ACTION: Notice; request for comments; correction.

SUMMARY: NMFS is correcting a notice that informed the public that the Assistant Regional Administrator for Sustainable Fisheries, Greater Atlantic Region, NMFS, has made a preliminary determination that an application submitted by the Cape Cod Commercial Fishermen's Alliance for an exempted fishing permit contains all of the required information and warrants further consideration. The proposed active date of the exempted fishing permit was incorrect.

DATES: Comments must be received on or before November 5, 2019.

ADDRESSES: You may submit written comments by either of the following methods:

• Email: nmfs.gar.efp@noaa.gov. Include in the subject line “6-INCH MESH CODEND EM EFP.”

• Mail: Michael Pentony, Regional Administrator, NMFS, Greater Atlantic Regional Fisheries Office, 55 Great Republic Drive, Gloucester, MA 01930. Mark the outside of the envelope “6-INCH MESH CODEND EM EFP.”

FOR FURTHER INFORMATION CONTACT: Spencer Talmage, Fishery Management Specialist, 978-281-9232.

SUPPLEMENTARY INFORMATION: On October 21, 2019, NMFS published a notification that informed the public that the Assistant Regional Administrator for Sustainable Fisheries, Greater Atlantic Region, NMFS, made a preliminary determination that an application submitted by the Cape Cod Commercial Fishermen's Alliance for an exempted fishing permit (EFP) contains all of the required information and warrants further consideration. The document incorrectly listed the active period for the EFP as January 1, 2019, through April 30, 2019, instead of the correct active period of January 1, 2020, through April 30, 2020. This correction does not change the scope or impact of the proposed EFP. This correction is necessary to provide interested parties the opportunity to comment on the application with correct and complete information.

Correction

In the Federal Register of October 21, 2019, in FR Doc 2019-22854, on page 56181, column 3, in the first full paragraph, the third sentence is corrected to read as follows: “The EFP would be active from January 1, 2020, through April 30, 2020.”

Authority: 16 U.S.C. 1801 et seq.

Dated: October 29, 2019.
Alan D. Risenhoover,
Director, Office of Sustainable Fisheries, National Marine Fisheries Service.

[FR Doc. 2019-23913 Filed 10-31-19; 8:45 am]

BILLING CODE 3510-22-P